DEPARTMENT OF ENERGY

Federal Energy Regulatory Commission

[Docket Nos. EL06-84-000]

Nevada Power Company, Inc.; Notice of Institution of Proceeding and Refund Effective Date

August 1, 2006.

On July 28, 2006, the Commission issued an order that instituted a proceeding in Docket No. EL06-84-000, pursuant to section 206 of the Federal Power Act (FPA), 16 U.S.C. 824e (2005), to provide a forum for Nevada Power Company to address its assertion that its projected native load needs justify a restriction on the rollover rights of its transmission customer, PacifiCorp. Nevada Power Company, 116 FERC ¶ 61,093 (2006).

The refund effective date in Docket No. EL06-84-000, established pursuant to section 206(b) of the FPA, will be the date of publication of this notice in the Federal Register.

Magalie R. Salas,
Secretary.

[FR Doc. E6-13764 Filed 8-17-06; 8:45 am]

BILLING CODE 6717-01-P